Title 3—

The President

Proclamation 9046 of October 28, 2013

Death of Thomas S. Foley Former Speaker of the House of Representatives

By the President of the United States of America

A Proclamation

As a mark of respect for the memory of Thomas S. Foley, former Speaker of the House of Representatives, by the authority vested in me as President of the United States by the Constitution and laws of the United States of America, I hereby order that the flag of the United States shall be flown at half-staff at the White House and upon all public buildings and grounds, at all military posts and naval stations, and on all naval vessels of the Federal Government in the District of Columbia and throughout the United States and its Territories and possessions on Tuesday, October 29, 2013. I also direct that the flag shall be flown at half-staff on that day at all United States embassies, legations, consular offices, and other facilities abroad, including all military facilities and naval vessels and stations.

IN WITNESS WHEREOF, I have hereunto set my hand this twenty-eighth day of October, in the year of our Lord two thousand thirteen, and of the Independence of the United States of America the two hundred and thirty-eighth.

[FR Doc. 2013-26278

Filed 10-30-13; 11:15 am]

Billing code 3295-F4